SECURITIES AND EXCHANGE COMMISSION

Sunshine Act Meeting

Notice is hereby given, pursuant to the provisions of the Government in the Sunshine Act, Public Law 94-409, that the Securities and Exchange Commission will host the SEC Government-Business Forum on Small Business Capital Formation on Thursday, November 15, 2012, beginning at 9:00 a.m. in the auditorium of the Commission's headquarters at 100 F Street NE., Washington, DC. Doors will open at 8:30 a.m. Visitors will be subject to security checks.

This Sunshine Act notice is being issued because a majority of the Commission may attend the meeting.

The forum will include remarks by SEC Commissioners and panel discussions that Commissioners may attend. Panel topics will include JOBS Act implementation and small business capital formation issues not addressed by the JOBS Act. Members of the public may attend the forum without charge. The Commissioner remarks and panel discussions will be webcast from the SEC's Web site.

For further information, please contact the Office of the Secretary at (202) 551-5400.

Dated: November 7, 2012.
Elizabeth M. Murphy,
Secretary.

[FR Doc. 2012-27528 Filed 11-7-12; 4:15 pm]

BILLING CODE 8011-01-P